DEPARTMENT OF COMMERCE

Office of the Secretary

Estimates of the Voting Age Population for 2006

AGENCY: Office of the Secretary, Commerce.

ACTION: General notice announcing population estimates.

SUMMARY: This notice announces the voting age population estimates, as of July 1, 2006, for each state and the District of Columbia. We are providing this notice in accordance with the 1976 amendment to the Federal Election Campaign Act, Title 2, United States Code 441a(e).

FOR FURTHER INFORMATION CONTACT: Enrique Lamas, Chief, Population Division, Bureau of the Census, Department of Commerce, Room HQ-5H174, Washington, DC 20233, telephone (301) 763-2071.

SUPPLEMENTARY INFORMATION: Under the requirements of the 1976 amendment to the Federal Election Campaign Act, Title 2, United States Code 441a(e), I hereby give notice that the estimates of the voting age population for July 1, 2006, for each state and the District of Columbia are as shown in the following table:

Estimates of the Population of Voting Age for Each State and the District of Columbia: July 1, 2006
Area | Population 18 and over
United States | 225,662,922
Alabama | 3,484,729
Alaska | 488,619
Arizona | 4,538,120
Arkansas | 2,119,686
California | 26,924,935
Colorado | 3,584,076
Connecticut | 2,686,523
Delaware | 650,110
District of Columbia | 466,649
Florida | 14,068,333
Georgia | 6,908,921
Hawaii | 987,417
Idaho | 1,072,185
Illinois | 9,616,726
Indiana | 4,735,891
Iowa | 2,271,891
Kansas | 2,068,238
Kentucky | 3,206,543
Louisiana | 3,197,767
Maine | 1,040,580
Maryland | 4,255,196
Massachusetts | 4,988,309
Michigan | 7,617,287
Minnesota | 3,909,837
Mississippi | 2,151,135
Missouri | 4,426,121
Montana | 726,784
Nebraska | 1,323,298
Nevada | 1,861,009
New Hampshire | 1,017,270
New Jersey | 6,635,222
New Mexico | 1,445,669
New York | 14,791,841
North Carolina | 6,701,118
North Dakota | 490,933
Ohio | 8,707,971
Oklahoma | 2,685,178
Oregon | 2,844,499
Pennsylvania | 9,635,748
Rhode Island | 830,159
South Carolina | 3,281,596
South Dakota | 587,238
Tennessee | 4,596,210
Texas | 17,013,818
Utah | 1,758,865
Vermont | 490,519
Virginia | 5,836,037
Washington | 4,869,531
West Virginia | 1,429,399
Wisconsin | 4,243,976
Wyoming | 393,210

I have certified these counts to the Federal Election Commission.

Dated: January 19, 2007.
Carlos M. Gutierrez,
Secretary, Department of Commerce.

[FR Doc. E7-1192 Filed 1-25-07; 8:45 am]

BILLING CODE 3510-07-P